DEPARTMENT OF ENERGY

Federal Energy Regulatory Commission

[Docket No. CP00-233-003]

Southern Natural Gas Company; Notice of Petition To Amend Order Issuing Certificate and Approving Abandonment

May 25, 2001.

Take notice that on May 18, 2001, Southern Natural Gas Company (Southern), AmSouth-Sonat Tower, 1900 Fifth Avenue North, Birmingham, Alabama 35203, in Docket No. CP00-233-003, filed an application pursuant to Section 7 of the Natural Gas Act (NGA) and the Commission's Rules and Regulations, for a petition to amend an order, all as more fully set forth in the application which is on file with the Commission and open to public inspection. The filing may be viewed on the web at http://www.ferc.fed.us/online/rims.htm (call 202-208-2222 for assistance).

Southern states that it is making this petition in order to amend the Order Issuing Certificate and Approving Abandonment (Certificate Order) issued in this proceeding on March 15, 2001.¹ Southern states that the Certificate Order authorized the construction and operation of the facilities commonly referred to as Southern's South System Expansion Project. Southern states that it seeks approval of a change in the size of certain of the loop pipelines to be added to Southern's South System. Southern states that it proposes to substitute 36-inch pipe for certain of the 30-inch pipe authorized in the Certificate Order. As indicated by Southern, this change will reduce the estimated cost of the South System Expansion Project by $1.1 million and will reduce the miles of new pipeline required for the project by approximately eight (8) miles.

¹ Southern Natural Gas Company, 94 FERC ¶ 61,297 (2001).

More specifically, Southern states that it is requesting the Commission issue an order amending the Certificate Order changing the pipe size from 30-inch O.D. to 36-inch O.D. for the indicated pipeline loop segments and changing their lengths as follows:

Loop 1: 4.75 miles of pipeline in Clarke County, Mississippi between Mileposts (MP) 67.23 and MP 71.98 (Phase I) and 3.95 miles of pipeline in Clarke County, Mississippi, between MP 71.98 and MP 75.93 (Phase II).

Loop 2: 3.56 miles of pipeline in Sumter County, Alabama, between MP 102.85 and MP 106.41 (Phase I) and 9.33 miles of pipeline in Sumter County, Alabama, between MP 106.41 and MP 115.74 (Phase II).

Loop 4: 5.99 miles of pipeline in Dallas and Autauga Counties, Alabama, between MP 185.16 and 191.15 (Phase I) and 6.71 miles of pipeline in Autauga County, Alabama, between MP 191.15 and 197.87 (Phase II). Also, the 12-inch pipeline authorized to be abandoned and removed to facilitate the installation of the new pipeline will change to 5.99 miles between MP 185.16 and 191.15 (Phase I) and 4.09 miles between MP 193.16 and MP 194.77; MP 195.09 and MP 197.27; and MP 197.57 and MP 197.87 (Phase II).

Any questions regarding the application should be directed to R. David Hendrickson, Assistant Secretary, Southern Natural Gas Company, P.O. Box 2563, Birmingham, Alabama 35202-2563, call (205) 325-7114.

There are two ways to become involved in the Commission's review of this project. First, any person wishing to obtain legal status by becoming a party to the proceedings for this project should, on or before June 15, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commentors will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, interventions and protests may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-13730 Filed 5-31-01; 8:45 am]

BILLING CODE 6717-01-M